EXPORT-IMPORT BANK OF THE UNITED STATES

Economic Impact Policy

This notice is to inform the public that the Export-Import Bank of the United States has received an application to guarantee $13.95 million of equipment, and other goods and services on behalf of a U.S. exporter to a buyer in Mexico. The U.S. exports will enable the Mexican company to increase aluminum engine block output by 550,000 units per year. This new production will be exported to the United States and Canada. Interested parties may submit comments on this transaction by email to economic.impact@exim.gov or by mail to 811 Vermont Avenue, NW, Room 1238, Washington, DC 20571, within 14 days of this notice appears in the Federal Register.

Export-Import Bank of the US Economic Impact Policy.

Helen S. Walsh,
Director, Policy Oversight and Review.

[FR Doc. 02-12951 Filed 5-22-02; 8:45 am]

BILLING CODE 6690-01-M